DEPARTMENT OF THE INTERIOR

Office of the Secretary

[FF09D00000-123-FXGO1664091HCC05d]

Wildlife and Hunting Heritage Conservation Council Charter

AGENCY: Office of the Secretary, Interior.

ACTION: Notice of renewal.

SUMMARY: Under the Federal Advisory Committee Act (FACA), following consultation with the General Services Administration, the Secretary of the Interior and the Secretary of Agriculture have renewed the Wildlife and Hunting Heritage Conservation Council (Council) charter for 2 years.

DATES: The charter will be filed with the Senate and House of Representatives and the Library of Congress on March 8, 2012.

FOR FURTHER INFORMATION CONTACT: Joshua Winchell, Council Coordinator, U.S. Fish and Wildlife Service, (703) 358-2639.

SUPPLEMENTARY INFORMATION: The Council will conduct its operations in accordance with the provisions of the FACA. It will report to the Secretary of the Interior and the Secretary of Agriculture through the Fish and Wildlife Service. The Council will function solely as an advisory body. The Council's duties will consist of, but are not limited to, providing recommendations for:

(a) Implementing the Recreational Hunting and Wildlife Resource Conservation Plan—A Ten-Year Plan for Implementation;

(b) Increasing public awareness of and support for the Wildlife Restoration Program;

(c) Fostering wildlife and habitat conservation and ethics in hunting and shooting sports recreation;

(d) Stimulating sportsmen and women's participation in conservation and management of wildlife and habitat resources through outreach and education;

(e) Fostering communication and coordination among State, tribal, and Federal governments; industry; sportsmen and women who hunt and shoot; wildlife and habitat conservation and management organizations; and the public;

(f) Providing appropriate access to Federal lands for recreational shooting and hunting;

(g) Providing recommendations to improve implementation of Federal conservation programs that benefit wildlife, hunting, and outdoor recreation on private lands; and

(h) When requested by the Designated Federal Officer in consultation with the Council Chairman, performing a variety of assessments or reviews of policies, programs, and efforts through the Council's designated subcommittees or workgroups.

The Council will consist of no more than 18 discretionary and 7 ex officio members. The Secretary of the Interior and the Secretary of Agriculture will appoint discretionary members for 3-year terms.

(a) Ex officio members:

(1) Director, Fish and Wildlife Service, or designated representative;

(2) Director, Bureau of Land Management, or designated representative;

(3) Director, National Park Service, or designated representative;

(4) Chief, U.S. Forest Service, or designated representative;

(5) Chief, Natural Resources Conservation Service, or designated representative;

(6) Administrator, Farm Service Agency, or designated representative; and

(7) Executive Director, Association of Fish and Wildlife Agencies.

(b) The remaining (discretionary) members will be selected from among the national interest groups listed below. These members must be senior-level representatives of their organizations and/or have the ability to represent their designated constituency.

(1) State fish and wildlife resource management agencies;

(2) Wildlife and habitat conservation/management organizations;

(3) Game bird hunting organizations;

(4) Waterfowl hunting organizations;

(5) Big game hunting organizations;

(6) Sportsmen and women community at large;

(7) Archery, hunting, and/or shooting sports industry;

(8) Hunting and shooting sports outreach and education organizations;

(9) Tourism, outfitter, and/or guide industries related to hunting and/or shooting sports;

(10) Tribal resource management organizations.

The Council will function solely as an advisory body and in compliance with provisions of the FACA (5 U.S.C. Appendix 2). This notice is published in accordance with section 9a(2) of the FACA. The certification of renewal is published below.

Certification: I hereby certify that the Wildlife and Hunting Heritage Conservation Council is necessary and is in the public interest in connection with the performance of duties imposed on the Department of the Interior and the Department of Agriculture in furtherance of the provisions of the Fish and Wildlife Act of 1956 (16 U.S.C. 742a), the Federal Land Policy and Management Act of 1976 (43 U.S.C. 1701), the National Wildlife Refuge System Improvement Act of 1997 (16 U.S.C. 668dd), and Executive Order 13443, “Facilitation of Hunting Heritage and Wildlife Conservation.”

Dated: January 11, 2012.
Ken Salazar,
Secretary of the Interior.

[FR Doc. 2012-4028 Filed 2-21-12; 8:45 am]

BILLING CODE 4310-55-P